NUCLEAR REGULATORY COMMISSION

Sunshine Act Meeting, Notice

DATE: Weeks of January 31, February 7, 14, and 21, 2000.

PLACE: Commissioners' Conference Room, 11555 Rockville Pike, Rockville, Maryland.

STATUS: Public and Closed.

MATTERS TO BE CONSIDERED:

Week of January 31

There are no meetings scheduled for the Week of January 31.

Week of February 7—Tentative

Tuesday, February 8

9:30 a.m.

Discussion of Nuclear Issues in the Former Soviet Union (Closed—Ex. 1 & 9).

Wednesday, February 9

10:00 a.m

Briefing on Status of Research Programs, Performance, and Plans (Including Status of Thermo-Hydraulics) (Public Meeting). (Contact: Jocelyn Mitchell, 301-415-5289)

Thursday, February 10

9:25 a.m.

Affirmation Session (Public Meeting) (if needed).

9:30 a.m.

Briefing on Status of CFO Programs, Performance, and Plans (Public Meeting). (Contact: Lars Solander, 301-415-6080).

Friday, February 11

9:30 a.m.

Briefing on Status of NMSS Programs, Performance, and Plans (Public Meeting). (Contact: Claudia Seelig, 301-415-7243).

Week of February 14—Tentative

There are no meetings scheduled for the Week of February 14.

Week of February 21—Tentative

Tuesday, February 22

9:00 a.m.

Briefing on Threat Environment Assessment (Closed—Ex. 1).

11:00 a.m.

Briefing by the Executive Branch (Closed—Ex. 1).

Wednesday, February 23

8:55 a.m.

Affirmation Session (Public Meeting) (if needed).

9:00 a.m.

Briefing on Status of Spent Fuel Projects (Public Meeting).

10:45 a.m.

Discussion of Intragovernmental Issues (Closed—Ex. 9).

* The schedule for Commission meetings is subject to change on short notice. To verify the status of meetings call (recording)—301-415-1292.

CONTACT PERSON FOR MORE INFORMATION: Bill Hill (301) 415-1661.

The NRC Commission Meeting Schedule can be found on the Internet at: http://www.nrc.gov/SECY/smj/schedule.htm.

This notice is distributed by mail to several hundred subscribers; if you no longer wish to receive it, or would like to be added to it, please contact the Office of the Secretary. Attn: Operations Branch, Washington, DC 20555 (301-415-1661). In addition, distribution of this meeting notice over the Internet system is available. If you are interested in receiving this Commission meeting schedule electronically, please send an electronic message to wmh@nr.gov or dkw@nrc.gov.

Dated: January 28, 2000.
William M. Hill, Jr.,
SECY Tracking Officer, Office of the Secretary.

[FR Doc. 00-2430 Filed 1-31-00; 2:50 pm]

BILLING CODE 7590-01-M